EXPORT-IMPORT BANK

Sunshine Act Meetings

Notice of an Open Meeting of the Board of Directors of the Export-Import Bank of the United States.

TIME AND DATE: Thursday, January 19, 2023, at 9:30 a.m.

PLACE: The meeting will be held via teleconference.

STATUS: The meeting will be open to public observation.

MATTERS TO BE CONSIDERED:

1. OECD Local Cost Increase

2. Policy Proposal for EXIM Financing 5G Transactions

CONTACT PERSON FOR MORE INFORMATION: Joyce B. Stone (202-257-4086). Members of the public who wish to attend the meeting may do so via teleconference and must register using the link below by noon Wednesday January 18, 2023. After completing the registration, individuals will receive a confirmation email containing information about joining the webinar. https://teams.microsoft.com/registration/PAFTuZHHMk2Zb1GDkIVFJw,pHLqbjVTrkuy_9KepKN6dQ,MFtnLzltSEGI6EQECdI5iQ,o8qJl3kYJk2L_ABN4wY_ug,vZM4El7UYUeG_MAW1OfxbQ,ty6uKl1vfUiw6R_zQ61RpA?mode=read&tenantId=b953013c-c791-4d32-996f-518390854527.

Joyce B. Stone,
Assistant Corporate Secretary.

[FR Doc. 2023-00482 Filed 1-9-23; 11:15 am]

BILLING CODE 6690-01-P